DEPARTMENT OF TRANSPORTATION

Office of the Secretary

Notice of Applications for Certificates of Public Convenience and Necessity and Foreign Air Carrier Permits Filed Under Subpart B (Formerly Subpart Q) During the Week Ending May 2, 2008

The following Applications for Certificates of Public Convenience and Necessity and Foreign Air Carrier

Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0152.

Date Filed: April 28, 2008.

Due Date for Answers, Conforming Applications, or Motion to Modify Scope:May 19, 2008.

Description: Application of VIM Airlines requesting a foreign air carrier permit to engage in charter transportation of passengers, property and mail between a point or points in the Russian Federation and a point or points in the United States; as well as in other charter air transportation operations.

Renee V. Wright,
Program Manager, Docket Operations, Federal Register Liaison.

[FR Doc. E8-13991 Filed 6-19-08; 8:45 am]

BILLING CODE 4910-9X-P